DEPARTMENT OF COMMERCE

National Oceanic and Atmospheric Administration

[RTID 0648-XC972]

Atlantic Highly Migratory Species; Climate Vulnerability Assessment Public Meeting and Webinar

AGENCY: National Marine Fisheries Service (NMFS), National Oceanic and Atmospheric Administration (NOAA), Commerce.

ACTION: Notice of public workshop and webinar/conference call.

SUMMARY: NMFS will hold a 3-day Atlantic Highly Migratory Species (HMS) Climate Vulnerability Assessment (CVA) public workshop and webinar in May 2023. NMFS uses CVAs to identify which species may be most vulnerable based on their exposure to projected changes in the environment (e.g., warming oceans) and their sensitivity or adaptability to handle those changes based on their life history characteristics. In-person workshops are a key component of the CVA scoring process. This workshop will allow a scientific panel of 15 experts to evaluate species sensitivity to climate change, identify and fix errors in scoring, allow for appropriate consideration of new information, address bias, and provide their individual scores for, and opinions on, HMS. The meeting is open to the public.

DATES: The CVA workshop and webinar will be held on Tuesday, May 16, 2023 through Thursday, May 18, 2023 from 9 a.m. to 5 p.m.

ADDRESSES: The in-person workshop will be held at the Embassy Suites by Hilton, 8000 José M. Tartak Ave, San Juan, Puerto Rico, 00979. The meeting will also be accessible via webinar/conference call. Please use this form to register for the workshop in order to receive access information: https://forms.gle/VaoPBRX24pAMWFBC6.

Agendas and additional meeting information can be found here: https://www.fisheries.noaa.gov/event/atlantic-highly-migratory-species-climate-vulnerability-assessment-public-workshop-and.

FOR FURTHER INFORMATION CONTACT: Jennifer Cudney, 301-427-8503, jennifer.cudney@noaa.gov, or Tyler Loughran, 301-427-8503, tyler.loughran@noaa.gov.

SUPPLEMENTARY INFORMATION: Atlantic HMS fisheries (tunas, billfish, swordfish, and sharks) are managed under the authority of the Magnuson-Stevens Fishery Conservation and Management Act (Magnuson-Stevens Act; 16 U.S.C. 1801 et seq.) and the Atlantic Tunas Convention Act (16 U.S.C. 971 et seq.). The 2006 Consolidated HMS Fishery Management Plan and its amendments are implemented by regulations at 50 CFR part 635.

The NMFS Climate Science Strategy (https://www.fisheries.noaa.gov/national/climate/noaa-fisheries-climate-science-strategy) prioritized the use of CVAs to better understand what is at risk and why, and to help triage and prioritize climate science funding and resource decisions. NMFS uses CVAs to identify which species may be most vulnerable based on their exposure to projected changes in the environment (e.g., warming oceans) and their sensitivity or adaptability to handle those changes based on their life history characteristics. In-person workshops are a key component of the CVA scoring process. This HMS CVA workshop will allow a scientific panel of 15 experts to: evaluate the sensitivity of HMS to climate change; identify and fix errors in scoring; allow for appropriate consideration of new information; address bias; and provide their individual scores for, and opinions on, HMS. Panelists will also consider, and provide their individual views on, whether impacts of climate change are anticipated to be negative, neutral, or positive on HMS species. The intent of the workshop is to increase transparency in the process of determining final scores. NMFS will generate preliminary scores indicating overall expected vulnerability of HMS to climate change at the end of the workshop; this will be based on consideration of the panelists' individual scores and other information and analyses. Panelists will be provided additional opportunities after the workshop to finalize their individual scores. NMFS will take these individual scores and other information and analyses into consideration when the agency develops final vulnerability rankings. Under the Magnuson-Stevens Act, NMFS is required to use the best scientific information available for fishery management per National Standard 2, 16 U.S.C. 1851(a)(2). NMFS will make the final results of the HMS CVA available to the public through a variety of outreach mechanisms including the NOAA CVA website (https://www.fisheries.noaa.gov/national/climate/climate-vulnerability-assessments), manuscripts, web stories, and other tools.

This workshop will include both large group discussion of relevant information and breakout groups to provide panelists the opportunity to focus on species-specific discussions. Additional information on the meeting and a copy of the draft agenda will be posted prior to the meeting (see ADDRESSES).

Ground rules for the workshop will be strictly enforced through the workshop and will be made available with webinar access information (see ADDRESSES). Members of the public are invited to observe the workshop in person or virtually, and will be provided limited opportunities to present information to a panel of scientific experts to assist in their evaluation of species' sensitivity to climate change. The workshop location will be physically accessible to people with disabilities. Requests for sign language interpretation or other auxiliary aids should be directed to Jennifer Cudney or Tyler Loughran at 301-427-8503, at least 7 days prior to the meeting. Members of the public accessing the webinar are strongly encouraged to log/dial in 15 minutes prior to the meeting in case of technical issues. Members of the public observing the workshop via webinar are invited to observe both large group and breakout discussions, and should be prepared to indicate breakout group preferences at appropriate times.

Dated: May 3, 2023.
Jennifer M. Wallace,
Acting Director, Office of Sustainable Fisheries, National Marine Fisheries Service.

[FR Doc. 2023-09743 Filed 5-5-23; 8:45 am]

BILLING CODE 3510-22-P